DEPARTMENT OF COMMERCE

International Trade Administration

[A-570-954]

Certain Magnesia Carbon Bricks From the People's Republic of China: Final Results of Antidumping Duty Administrative Review and Final Determination of No Shipments, In Part; 2017-2018

AGENCY: Enforcement and Compliance, International Trade Administration, Department of Commerce.

SUMMARY: The Department of Commerce (Commerce) continues to determine that two companies under review had no shipments of subject merchandise during the period of review (POR), September 1, 2017 through August 31, 2018. Additionally, Commerce continues to determine that the remaining companies subject to this review are part of the China-wide entity because they failed to file no shipment statements, separate rate applications, or separate rate certifications.

DATES: Applicable February 20, 2020.

FOR FURTHER INFORMATION CONTACT: Nathan James, AD/CVD Operations, Office V, Enforcement and Compliance, International Trade Administration, Department of Commerce, 1401 Constitution Avenue NW, Washington, DC 20230; telephone: (202) 482-5305.

SUPPLEMENTARY INFORMATION:

Background

On October 16, 2019, Commerce published the preliminary results of the administrative review of the antidumping duty order on certain magnesia carbon bricks from the People's Republic of China (China) for the period September 1, 2017 through August 31, 2018.¹ We invited parties to comment on the Preliminary Results. No party submitted comments. Accordingly, the final results remain unchanged from the Preliminary Results.

¹ See Certain Magnesia Carbon Bricks from the People's Republic of China; Preliminary Results of the Antidumping Duty Administrative Review; 2017-2018, 84 FR 55287 (October 16, 2019) (Preliminary Results); and Memorandum, “Decision Memorandum for the Preliminary Results of the Administrative Review of the Antidumping Duty Order on Certain Magnesia Carbon Bricks from the People's Republic of China; 2017-2018,” dated October 9, 2019 (Preliminary Decision Memorandum).

Scope of the Order

The scope of the Order covers certain magnesia carbon bricks.² For a complete description of the scope of the Order, see the Preliminary Decision Memorandum.

² See Certain Magnesia Carbon Bricks from Mexico and the People's Republic of China: Antidumping Duty Orders, 75 FR 57257 (September 20, 2010) (Order).

Final Determination of No Shipments and Status of the China-Wide Entity

Commerce preliminarily found that: (1) Fedmet Resources Corporation (Fedmet); and (2) Fengchi Imp. and Exp. Co., Ltd., Fengchi Imp. and Exp. Co., Ltd. of Haicheng City, Fengchi Mining Co., Ltd. of Haicheng City, and Fengchi Refractories Co., of Haicheng City (collectively, Fengchi) had no reviewable entries, shipments, or sales of subject merchandise to the United States during the POR. As noted in Preliminary Decision Memorandum, we received no shipment statements from Fedmet and Fengchi, and these statements were consistent with the information we received from U.S. Customs and Border Protection (CBP).³

³ See Preliminary Decision Memorandum at 2.

No party commented on our preliminary no-shipment finding with respect to Fedmet and Fengchi, and no party submitted record evidence that calls this finding into question. Therefore, for these final results, we continue to find that Fedmet and Fengchi did not have any reviewable entries, shipments, or sales of subject merchandise to the United States during the POR.

With the exceptions of Fedmet and Fengchi, we find all other companies for which a review was requested to be part of the China-wide entity because they failed to file no-shipment statements, separate rate applications, or separate rate certifications. The following companies, accordingly, are part of the China-wide entity: Liaoning Zhongmei High Temperature Material Co., Ltd., Liaoning Zhongmei Holding Co., Ltd., RHI Refractories Liaoning Co., Ltd., Shenglong Refractories Co., Ltd., Yingkou Heping Samwha Minerals, Co., Ltd., and Yingkou Heping Sanhua Materials Co., Ltd.⁴ Because no party requested a review of the China-wide entity, and Commerce no longer considers the China-wide entity as an exporter conditionally subject to administrative reviews, we did not conduct a review of the China-wide entity. The rate previously established for the China-wide entity is 236.00 percent and is not subject to change as a result of this review.⁵

⁴ See Memorandum, “Eighth Administrative Review of Certain Magnesia Carbon Bricks from the People's Republic of China: Customs Data of U.S. Imports,” dated July 12, 2019.

⁵ See Certain Magnesia Carbon Bricks from the People's Republic of China: Final Results and Final Partial Rescission of the Antidumping Duty Administrative Review; 2012-2013, 80 FR 19961, 19962 (April 14, 2015).

Assessment Rates

We have not calculated any assessment rates in this administrative review. Based on record evidence, we have determined that Fedmet and Fengchi had no shipments of subject merchandise and, therefore, pursuant to Commerce's assessment practice, any suspended entries that entered under their case numbers will be liquidated at the China-wide entity rate.⁶

⁶ See Non-Market Economy Antidumping Proceedings: Assessment of Antidumping Duties, 76 FR 65694 (October 24, 2011).

For all remaining companies subject to this review, which are part of the China-wide entity, we will instruct CBP to liquidate their entries at the current rate for the China-wide entity (i.e., 236.00 percent). Commerce intends to issue appropriate assessment instructions to CBP 15 days after the publication date of the final results of this administrative review.

Cash Deposit Requirements

The following cash deposit requirements will be effective upon publication of the final results of this administrative review for shipments of subject merchandise from China entered, or withdrawn from warehouse, for consumption on or after the publication date of this notice, as provided by section 751(a)(2)(C) of the Act: (1) For previously investigated or reviewed Chinese and non-Chinese exporters that received a separate rate in a prior segment of this proceeding, the cash deposit rate will continue to be the existing exporter-specific rate published for the most recently completed period; (2) for all Chinese exporters of subject merchandise that have not been found to be entitled to a separate rate, the cash deposit rate will be the China-wide rate of 236.00 percent; and (3) for all non-Chinese exporters of subject merchandise which have not received their own rate, the cash deposit rate will be the rate applicable to the Chinese exporter that supplied that non-Chinese exporter. These deposit requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Orders

This notice also serves as the only reminder to parties subject to administrative protective order (APO) of their responsibility concerning the return or destruction of proprietary information disclosed under APO in accordance with 19 CFR 351.305(a)(3). Timely written notification of the return or destruction of APO materials or conversion to judicial protective order is hereby requested. Failure to comply with the regulations and terms of an APO is a violation subject to sanction. These final results are issued and published in accordance with sections 751(a)(1) and 777(i) of the Act and 19 CFR 351.213(h).

Dated: February 11, 2020.
Jeffrey I. Kessler,
Assistant Secretary for Enforcement and Compliance.

[FR Doc. 2020-03364 Filed 2-19-20; 8:45 am]

BILLING CODE 3510-DS-P